DEPARTMENT OF HOMELAND SECURITY

Coast Guard

[Docket No. USCG-2008-0521]

National Preparedness for Response Exercise Program

AGENCY: Coast Guard, DHS.

ACTION: Notice; request for public comment.

SUMMARY: The Coast Guard, the Pipeline and Hazardous Materials Safety Administration, the Environmental Protection Agency, and the Minerals Management Service, in concert with representatives from various State governments, industry, environmental interest groups, and the general public, developed the National Preparedness for Response Exercise Program (PREP) Guidelines to reflect the consensus agreement of the entire oil spill response community. This notice announces the PREP 5-year exercise cycle, 2009 through 2013, and requests comments from the public, and requests volunteers from industry to participate in the scheduled PREP Area exercises. The new schedule adjustment from 3 years to 5 years was created to align with the Department of Homeland Security's National Exercise 5-year Schedule.

DATES: Comments and related material must reach the Docket Management Facility on or before October 3, 2008.

ADDRESSES: You may submit comments identified by Coast Guard docket number USCG-2008-0521 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Hand delivery: Same as mail address above, between 9 a.m. and 5 p.m., Monday through Friday, except Federal holidays. The telephone number is 202-366-9329.

(4) Fax: 202-493-2251.

FOR FURTHER INFORMATION CONTACT: If you have questions on this notice, or need general information regarding the PREP or the 5-year exercise schedule, contact Lieutenant Shawn Essert, Office of Contingency Exercises (CG-535), U.S. Coast Guard, telephone 202-372-2149, or e-mail shawn.g.essert@uscg.mil. If you have questions on viewing or submitting material to the docket, call Ms. Renee V. Wright, Program Manager, Docket Operations, telephone 202-366-9826.

SUPPLEMENTARY INFORMATION

Public Participation and Request for Comments

We encourage you to respond to this notice by submitting comments and related materials. All comments received will be posted, without change, to http://www.regulations.gov and will include any personal information you provide. We have an agreement with the Department of Transportation to use their Docket Management Facility.

Submitting Comments

If you submit a comment, please include the docket number for this notice (USCG-2008-0521), indicate the specific section of this document to which each comment applies, and give the reason for each comment. We recommend that you include your name and a mailing address, an e-mail address, or a phone number in the body of your document so that we can contact you if we have questions regarding your submission. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this 5-year exercise schedule, as well as other elements of the PREP, in light of your comments.

Viewing Comments and Documents

To view comments, as well as documents mentioned in this preamble as being available in the docket, go to http://www.regulations.gov at any time. Enter the docket number for this notice (USCG-2008-0521) in the Search box, and click “Go>>.” If you do not have access to the Internet, you may view the docket online by visiting the Docket Management Facility in Room W12-140 on the ground floor of the Department of Transportation West Building, 1200 New Jersey Avenue, SE., Washington, DC 20590, between 9 a.m. and 5 p.m., Monday through Friday, except Federal holidays.

Privacy Act

Anyone can search the electronic form of all comments received into any of our dockets by the name of the individual submitting the comment (or signing the comment, if submitted on behalf of an association, business, labor union, etc.). You may review a Privacy Act, system of records notice regarding our public dockets in the January 17, 2008 issue of the Federal Register (73 FR 3316).

Background and Purpose

In 1994, the United States Coast Guard (USCG), the Research and Special Programs Administration (RSPA) of the Department of Transportation, the U.S. Environmental Protection Agency (EPA), and the Minerals Management Service (MMS) of the Department of the Interior, coordinated the development of the National Preparedness for Response Exercise Program (PREP) Guidelines to ensure compliance with the Oil Pollution Act of 1990 (OPA 90) pollution response exercise requirements (33 U.S.C. 1321(j)). The guiding principles of PREP distinguish between internal and external exercises. Internal exercises are conducted within the planholder's organization. External exercises extend beyond the planholder's organization to involve other members of the response community. External exercises are separated into two categories: Area exercises, and Government-initiated, unannounced exercises. External exercises are designed to evaluate the entire pollution response mechanism in a given geographic Area to ensure adequate response preparedness.

Area exercises involve the entire response community including Federal, State, local, tribal, and non-government organizations, and industry participants; therefore, these Area exercises require more extensive planning than other oil spill response exercises. The PREP Guidelines describe all of these exercises in more detail.

A National Schedule Coordination Committee (NSCC) was established for scheduling Area exercises. The NSCC is comprised of personnel representing the four Federal regulating agencies—the USCG, EPA, MMS, and the Pipeline and Hazardous Materials Safety Administration's (PHMSA) Office of Pipeline Safety (OPS). Since 1994, the NSCC published a triennial schedule of Area exercises. Starting in 2008, NSCC will publish a schedule of Area exercises every 5 years.

Source for PREP Documents

The PREP Area exercise schedule and exercise design manuals are available on the Internet at http://homeport.uscg.mil/exercises. To obtain a hard copy of the exercise design manual, contact Ms. Melanie Barber at PHMSA, Office of Pipeline Safety at 202-366-4560.

PREP Schedule

This notice announces the next 5-year schedule of the Area exercises. The PREP schedule for calendar years 2009 through 2013 for Government-led and Industry-led Area exercises is available on the Internet in the docket for this notice at http://www.regulations.gov and at http://homeport.uscg.mil/exercises under Port Level Exercises. Any revisions to the schedule will appear on the http://homeport.uscg.mil Web site. We have include a table listing the dates and Federal Register cites of past PREP exercise notices in our online docket for those who wish to compare this 2009-2013 schedule with past schedules.

If a company wants to volunteer for an Area exercise, a company representative may call either the Coast Guard or EPA on-scene coordinator for times and locations. If you have concerns or recommended improvements to the Government-led PREP exercises, please submit those using the procedures described under the ADDRESSES section of this notice.

Dated: July 24, 2008.
Joseph R. Castillo,
Rear Admiral, U.S. Coast Guard, Director of Response Policy.

[FR Doc. E8-17755 Filed 8-1-08; 8:45 am]

BILLING CODE 4910-15-P